FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entitites
Transactions Granted Early Termination—10/29/2001
20020042 | Omnicom Group Inc. | Schwartz Paper Company | Integrated Merchandising Systems LLC.
20020044 | Neptune Acquisition I Corp | Schlumberger Limited | Schlumber Resource Management Services, Inc.
20020046 | InterMune, Inc | Eli Lilly and Company | Eli Lilly and Company.
20020050 | First Reserve Fund IX, L.P | C&W Fabricators, Inc | C&W Fabricators, Inc.
20020054 | General Electric Company | Robert W. Doede and Nina J. Doede | Centurion Capital Group Inc.
20020056 | WPP Group plc | Mark Penn | Neuro Corp. Penn, Schoen & Berland Associates, Inc. PSA Interviewing Denver, Inc.
20020065 | Olympus Growth Fund III, L.P | Dana Pross | Club Staffing, Inc.
Transactions Granted Early Termination—10/30/2001
20020052 | Quest Diagnostics Incorporated | Lifepoint Medical Corporation | Lifepoint Medical Corporation.
Transactions Granted Early Termination—10/31/2001
20020066 | C.B. Bard, Inc | NMT Medical Inc | NMT Medical Inc.
Transactions Granted Early Termination—11/02/2001
20011871 | Northrop Grumman Corporation | Newport News Shipbuilding, Inc | Newport News Shipbuilding, Inc.
Transactions Granted Early Termination—11/06/2001
20012394 | Career Holdings, Inc | HeadHunter.NET, Inc | HeadHunter.NET, Inc.
20020030 | VeriSign, Inc | Illuminet Holdings, Inc | Illuminet Holdings, Inc.
20020064 | Apollo Investment V, L.P | IMC Global Inc | IMC Inorganics, Inc.
20020068 | The News Corporation Limited | Liberty Media Corporation | Fox Sports International Distribution Ltd. Fox Sports Latin America Ltd. Fox Sports Mexico Distribution LLC. Fox Sports Middle East Ltd. Fox Sports U.S. Distribution LLC. Fox Sports World Espanol LLC. Fox Sports World LLC. ISP Transponder, LLC.
20020076 | Omnicom Group Inc | Richard Tarlow & Sandra Carlson, husband and wife | Carlson & Partners Inc.
Transactions Granted Early Termination—11/07/2001
20020072 | Clear Channel Communications, Inc | Barry A. Ackerley | The Ackerley Group, Inc.
20020073 | The J.M. Smucker Company | The Procter & Gamble Ohio Brands Company | The Procter & Gamble Ohio Brands Company.
20020079 | John H. Chuang | Renaissance Worldwide, Inc | Renaissance Worldwide, Inc.
20020081 | Weatherford International, Inc | CiDRA Corporation | CiDRA Corporation.
Transactions Granted Early Termination—11/08/2001
20012190 | PerkinElmer, Inc | Stonington Capital Appreciation 1994 Fund, L.P | Packard BioScience Company.
20012191 | Stonington Capital Appreciation 1994 Fund, L.P | PerkinElmer, Inc | PerkinElmer, Inc.
20020086 | International Multifoods Corporation | General Mills, Inc | General Mills, Inc.
Transactions Granted Early Termination—11/09/2001
20020075 | Edward H, Arnold | Roadway Corporation | Arnold Transportation Services, Inc.
20020077 | Qwest Communications International Inc | KPNQwest N.V | KPNQwest N.V.
20020078 | NMS Communications Corporation | Lucent Technologies Inc | Lucent Technologies Inc.
20020080 | Union Pacific Corporation | Harold R. Tate | Motor Cargo Industries, Inc., Ute Trucking and Leasing.

For Further Information Contact: Sandra M. Peay or Parcellena P. Fielding, Contact Representatives, Federal Trade Commission, Premerger Notification Office, Bureau of Competition, Room 303, Washington, DC 20580, (202) 326-3100.

By Direction of the Commission.
Donald S. Clark,
Secretary.

[FR Doc. 01-28942 Filed 11-9-01; 8:45 am]

BILLING CODE 6750-01-M